DEPARTMENT OF DEFENSE

The Department of the Navy

[No. USN-2007-0034]

Proposed Collection; Comment Request

AGENCY: Department of the Navy, DoD.

ACTION: Notice.

SUMMARY: In compliance with Section 3506(c)(2)(A) of the Paperwork Reduction Act of 1995, the Naval Sea Systems Command announces the following new proposal for collection of information and seeks public comment on the provisions thereof. Comments are invited on: (a) Whether the proposed collection of information is necessary for the proper performance of the functions of the agency, including whether the information shall have practical utility; (b) the accuracy of the agency's estimate of the burden of the proposed information collected; (c) ways to enhance the quality, utility and clarity of the information collected; and (d) ways to minimize the burden of the information collection on respondents, including through the use of automated collection techniques or other forms of information technology.

DATES: Consideration will be given to all comments received by July 31, 2007.

ADDRESSES: You may submit comments, identified by docket number and title, by any of the following methods:

• Federal eRulemaking Portal: http://www.regulations.gov. Following the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request additional information or to obtain a copy of the proposal and associated collection instrument, write to Commander, Naval Sea Systems Command (SEA OOP), 1333 Isaac Hull Avenue, SE., STOP 9917, Washington Navy Yard, DC 20376-9917, or contact Madison Townley or Sherrie Miller at (202) 781-3828 or (202) 781-2441, respectively.

Title; Associated Form and OMB Number: Naval Sea Systems Command and Field Activity Visitor Access Request; NAVSEA 5530/5; OMB Control Number 0703-TBD.

Needs and Uses: This collection of information provides Naval Sea Systems Command and Naval Sea Systems Command Field Activity's contractors, military and government civilians with a requirement that provides for the collection of information to ensure that only visitors with an appropriate clearance level and need-to-know are granted access to classified information. Respondents are Navy business personnel, support contractors and individuals from other agencies visiting the Command and Field Activities to discuss Navy matters.

Affected Public: Businesses or other for-profit and not-for-profit institutions.

Annual Burden Hours: 1,300.

Number of Annual Responses: 5,200.

Responses Per Respondent: 1.

Average Burden Per Response: 15 minutes.

Frequency: On occasion.

SUPPLEMENTARY INFORMATION:

Summary of Information Collection

This collection of information provides Naval Sea Systems Command and Naval Sea Systems Command Field Activity's contractors, military and government civilians with a requirement that provides for the collection of information to ensure that only visitors with an appropriate clearance level and need-to-know are granted access to classified information. Respondents are Navy business personnel, support contractors and individuals from other agencies visiting the Command and Field Activities to discuss Navy matters.

Dated: May 21, 2007.
Patricia L. Toppings,
Alternate OSD Federal Register Liaison Officer, Department of Defense.

[FR Doc. 07-2710 Filed 5-31-07; 8:45 am]

BILLING CODE 5001-06-M